JUDICIAL CONFERENCE OF THE UNITED STATES

Meeting of the Judicial Conference Advisory Committee on Rules of Civil Procedure

AGENCY: Judicial Conference of the United States; Advisory Committee on Rules of Civil Procedure.

ACTION: Notice of open meeting.

SUMMARY: The Advisory Committee on Rules of Civil Procedure will hold an open meeting on Saturday, February 12, 2005, from 1 p.m. to 3 p.m. The meeting will be held in the Judicial Conference Center of the Thurgood Marshall Federal Judiciary Building, One Columbus Circle, NE.

[The meeting will follow the Saturday, February 12, 2005, public hearing which will begin at 8:30 a.m., and end at 12 noon. Original notice of the February 12, 2005, public hearing appeared in the Federal Register of February 1, 2005.]

FOR FURTHER INFORMATION CONTACT: John K. Rabiej, Chief, Rules Committee Support Office, Administrative Office of the United States Courts, Washington, DC 20544, telephone (202) 502-1820.

Dated: February 3, 2005
John K. Rabiej,
Chief, Rules Committee Support Office.

[FR Doc. 05-2599 Filed 2-9-05; 8:45 am]

BILLING CODE 2210-55-M